DEPARTMENT OF COMMERCE

International Trade Administration

[A-570-848]

Freshwater Crawfish Tail Meat From the People's Republic of China: Extension of Time Limit for Final Results of Antidumping Duty Administrative Review

AGENCY: Import Administration, International Trade Administration, Department of Commerce.

DATES: Effective Date: January 25, 2012.

FOR FURTHER INFORMATION CONTACT: Dmitry Vladimirov, AD/CVD Operations, Office 5, Import Administration, International Trade Administration, U.S. Department of Commerce, 14th Street and Constitution Avenue NW., Washington, DC 20230; telephone: (202) 482-0665.

SUPPLEMENTARY INFORMATION:

Background

On October 28, 2010, the Department of Commerce (the Department) initiated an administrative review of the antidumping duty order on freshwater crawfish tail meat from the People's Republic of China (PRC) for the period September 1, 2009, through August 31, 2010. See Initiation of Antidumping and Countervailing Duty Administrative Reviews, 75 FR 66349 (October 28, 2010). On October 7, 2011, we published in the Federal Register the preliminary results of this review. See Freshwater Crawfish Tail Meat From the People's Republic of China: Preliminary Results of Antidumping Duty Administrative Review and Intent to Rescind Review in Part, 76 FR 62349 (October 7, 2011) (Preliminary Results).¹ The final results of this review are currently due no later than February 4, 2012.

¹ In publishing the Preliminary Results, the Federal Register distorted the title of the notice; a correction of the title published in 76 FR 65497 (October 21, 2011).

Extension of Time Limit of the Final Results

Section 751(a)(3)(A) of the Tariff Act of 1930, as amended (Act) requires the Department to issue the final results of a review within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit because the Department needs additional time to evaluate the arguments and submissions made by interested parties following the Preliminary Results. Therefore, we are fully extending the time limit for the final results by 60 days, to April 4, 2012, in accordance with section 751(a)(3)(A) of the Act and 19 CFR 351.213(h)(2).

This notice is published pursuant to sections 751(a)(1) and 777(i)(1) of the Act.

Dated: January 17, 2012.
Christian Marsh,
Deputy Assistant Secretary for Antidumping and Countervailing Duty Operations.

[FR Doc. 2012-1529 Filed 1-24-12; 8:45 am]

BILLING CODE 3510-DS-P